NUCLEAR REGULATORY COMMISSION

[Docket Nos. 50-317 and 50-318]

Calvert Cliffs Nuclear Power Plant, Inc., Calvert Cliffs Nuclear Power Plant, Unit Nos 1 and 2; Environmental Assessment and Finding of No Significant Impact

The U.S. Nuclear Regulatory Commission (NRC) is considering issuance of an amendment to Facility Operating License Nos. DPR-53 and DPR-69, issued to Calvert Cliffs Nuclear Power Plant, Inc. (the licensee), for operation of the Calvert Cliffs Nuclear Power Plant, Unit Nos. 1 and 2, located in Calvert County, Maryland.

Environmental Assessment

Identification of Proposed Action

The proposed action would correct administrative errors in Section 5.6.5, “Core Operating Limits Report (COLR),” of the Technical Specifications (TSs) and Section 2.0, “Environmental Protection Issues,” of the Environmental Protection Program (EPP).

The proposed action is in accordance with the licensee's application dated January 31, 2002.

The Need for the Proposed Action

On March 17, 1994, the NRC staff issued Amendment Nos. 186/163 to the licensee. These amendments inadvertently introduced two typographical errors on Page 5.0-36 of the TSs.

Page 2-1 of the EPP states that the effective National Pollution Discharge Elimination System (NPDES) Permit is issued by “the State of Maryland Department of Health and Mental Hygiene.” This agency no longer exists; “the Maryland Department of the Environment” is the state agency currently responsible for regulation of matters involving water quality and aquatic biota.

The licensee proposed to correct these administrative errors. The proposed amendments have no impact on actual plant equipment, regulatory requirements, operating practices, or analyses.

Environmental Impacts of the Proposed Action

The NRC has completed its evaluation of the proposed action and concludes that there is no significant environmental impact if the amendments are granted. No changes will be made to the design, licensing bases, or the applicable procedures at the unit. Other than the correction of administrative errors, no other changes will be made to the TSs and the EPP. The proposed action will not significantly increase the probability or consequences of accidents, no changes are being made in the types of any effluents that may be released offsite, and there is no significant increase in occupational or public radiation exposure. Therefore, there are no significant radiological environmental impacts associated with the proposed action.

With regard to potential non-radiological impacts, the proposed action does not involve any historic sites. It does not affect non-radiological plant effluents and has no other environmental impact. Therefore, there are no significant non-radiological environmental impacts associated with the proposed action.

Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resource than those previously considered in the Final Environmental Statement for the Calvert Cliffs Nuclear Power Plant, Unit Nos. 1 and 2.

Agencies and Persons Contacted

On May 15, 2002, the NRC staff consulted with the Maryland State official, Richard McLean, regarding the environmental impact of the proposed action. The State official had no comments.

Finding of No Significant Impact

On the basis of the foregoing environmental assessment, the NRC concludes that the proposed amendment will not have a significant effect on the quality of the human environment. Accordingly, the NRC has determined not to prepare an environmental impact statement for the proposed amendment.

For further details with respect to the proposed action, see the licensee's letter dated January 31, 2002. Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the internet at the NRC Web site, http://www.nrc.gov/reading-rm/adams.html. Persons who do not have access to ADAMS or who encounter problems in accessing the documents located in ADAMS, should contact the NRC PDR Reference staff by telephone at 1-800-397-4209 or 301-415-4737, or by e-mail to pdr@nrc.gov.

Dated at Rockville, Maryland, this 30th day of July 2002.
For the Nuclear Regulatory Commission.
Richard J. Laufer,
Chief, Section 1, Project Directorate I, Division of Licensing Project Management, Office of Nuclear Reactor Regulation.

[FR Doc. 02-19683 Filed 8-2-02; 8:45 am]

BILLING CODE 7590-01-P